DEPARTMENT OF COMMERCE

International Trade Administration

[A-570-888]

Floor-Standing, Metal-Top Ironing Tables and Certain Parts Thereof From the People's Republic of China: Final Results of Expedited Third Sunset Review of the Antidumping Duty Order

AGENCY: Enforcement and Compliance, International Trade Administration, Department of Commerce.

SUMMARY: As a result of this expedited sunset review, the Department of Commerce (Commerce) finds that revocation of the antidumping duty (AD) order on floor-standing, metal-top ironing tables and certain parts thereof (ironing tables) from the People's Republic of China (China) would be likely to lead to continuation or recurrence of dumping at the levels indicated in the “Final Results of Sunset Review” section of this notice.

DATES: Applicable June 7, 2021.

FOR FURTHER INFORMATION CONTACT: Chelsey Simonovich, AD/CVD Operations, Office VI, Enforcement and Compliance, U.S. Department of Commerce, 1401 Constitution Avenue NW, Washington, DC 20230; telephone (202) 482-1979.

SUPPLEMENTARY INFORMATION:

Background

In 2004, Commerce published in the Federal Register its final affirmative determination of sales at less than fair value and AD order on ironing tables from China.¹ On February 1, 2021, Commerce published the notice of initiation of the third sunset review of the Order, pursuant to section 751(c) of the Tariff Act of 1930, as amended (the Act).²

¹ See Notice of Final Determination of Sales at Less Than Fair Value: Floor-Standing, Metal-Top Ironing Tables and Certain Parts Thereof from the People's Republic of China, 69 FR 35296 (June 24, 2004) (Final Determination); see also Notice of Amended Final Determination of Sales at Less Than Fair Value and Antidumping Duty Order: Floor-Standing, Metal-Top Ironing Tables and Certain Parts Thereof from the People's Republic of China, 69 FR 47868 (August 6, 2004) (the Order).

² See Initiation of Five-Year (Sunset) Reviews, 86 FR 7709 (February 1, 2021) (Initiation).

On February 16, 2021, Commerce received a notice of intent to participate within the 15-day deadline specified in 19 CFR 351.218(d)(1)(i) from Home Products International, Inc. (the petitioner).³ The petitioner claimed interested party status under section 771(9)(C) of the Act as manufacturers, producers, or wholesalers in the United States of a domestic like product. On March 3, 2021, Commerce received complete substantive responses to the notice of initiation from domestic interested parties within the 30-day deadline specified in 19 CFR 351.218(d)(3)(i).⁴ Commerce received no substantive responses from respondent interested parties.

³ See Petitioner's Letter, “Notice of Intent to Participate: Third Five-Year Sunset Review of Floor-Standing, Metal-Top Ironing Tables and Certain Parts Thereof from the People's Republic of China,” dated February 16, 2021.

⁴ See Domestic Interested Parties' Letter, “Substantive Response of Home Products International, Inc. to the Notice of Initiation of the Third Five-Year Sunset Review of Floor-Standing, Metal-Top Ironing Tables and Certain Parts Thereof from the People's Republic of China,” dated March 3, 2021.

On March 23, 2021, Commerce notified the U.S. International Trade Commission that it did not receive an adequate substantive response from respondent interested parties.⁵ As a result, Commerce conducted an expedited, i.e., 120-day, sunset review of the Order pursuant to section 751(c)(3)(B) of the Act and 19 CFR 351.218(e)(1)(ii)(C)(2).

⁵ See Commerce's Letter, “Sunset Reviews Initiated on February 1, 2021,” dated March 23, 2021.

Scope of the Order

The merchandise subject to the Order consists of floor-standing, metal-top ironing tables, assembled or unassembled, complete or incomplete, and certain parts thereof. For a complete description of the products covered, see the Issues and Decision Memorandum.⁶

⁶ See Memorandum, “Issues and Decision Memorandum: Final Results of Expedited Third Sunset Review of the Antidumping Duty Order on Floor-Standing, Metal-Top Ironing Tables and Certain Parts Thereof from the People's Republic of China,” dated concurrently with, and hereby adopted by, this notice (Issues and Decision Memorandum).

Analysis of Comments Received

All issues raised in this sunset review are addressed in the Issues and Decision Memorandum, including the likelihood of continuation or recurrence of dumping in the event of revocation, and the magnitude of dumping margins likely to prevail if the orders were revoked. The Issues and Decision Memorandum is a public document and is on file electronically via Enforcement and Compliance's Antidumping and Countervailing Duty Centralized Electronic Service System (ACCESS). ACCESS is available to registered users at http://access.trade.gov. A list of topics discussed in the Issues and Decision Memorandum is attached to this notice as an Appendix. In addition, a complete version of the Issues and Decision Memorandum can be accessed directly on the internet at http://enforcement.trade.gov/frn.

Final Results of Sunset Review

Pursuant to sections 751(c)(1), 752(c)(1) and (3) of the Act, Commerce determines that revocation of the Order would be likely to lead to continuation or recurrence of dumping, and that the magnitude of the dumping margins likely to prevail would be weighted-average margins up to 157.68 percent.

Administrative Protective Order (APO)

This notice serves as the only reminder to parties subject to the APO of their responsibility concerning the return or destruction of proprietary information disclosed under APO in accordance with 19 CFR 351.305(a). Timely written notification of the destruction of APO materials or conversion to judicial protective order is hereby requested. Failure to comply with the regulations and terms of an APO is a violation which is subject to sanction.

Notification to Interested Parties

We are issuing and publishing these results and notice in accordance with sections 751(c), 752(c), and 777(i)(1) of the Act and 19 CFR 351.218.

Dated: June 1, 2021.
Christian Marsh,
Acting Assistant Secretary for Enforcement and Compliance.

Appendix

List of Topics Discussed in the Issues and Decision Memorandum

I. Summary

II. Background

III. Scope of the Order

IV. History of the Order

V. Legal Framework

VI. Discussion of the Issues

VII. Final Results of the Review

VIII. Recommendation

[FR Doc. 2021-11845 Filed 6-4-21; 8:45 am]

BILLING CODE 3510-DS-P